DEPARTMENT OF TRANSPORTATION

Federal Aviation Administration

Notice of Intent To Request Review and Approval From the Office of Management and Budget (OMB) of a Proposed Public Collection of Information

AGENCY: Federal Aviation Administration (FAA), DOT.

ACTION: Notice.

SUMMARY: In compliance with the Paperwork Reduction Act (44 U.S.C. 3501 et seq.), this notice announces that the FAA is planning to submit a proposed information collection request to the Office of Management and Budget (OMB) for review and approval. Through this notice, the FAA is soliciting comment on the proposed, one-time information request of a Volcanic Ash User Needs Survey.

DATES: Comments must be received on or before October 3, 2000.

ADDRESSES: Comments may be mailed or delivered to the FAA at the following address: Mr. Steven Albersheim, Room 8320, Federal Aviation Administration, Aviation Weather Policy Division, ARW-100, 400, 7th Street, SW., Washington, DC 20590.

FOR FURTHER INFORMATION CONTACT: Ms. Judy Street at 800 Independence Ave., SW., Washington, DC 20591, or on (202) 267-9895.

SUPPLEMENTARY INFORMATION: Title: Volcanic Ash User Needs Survey.

Abstract: Volcanic activity, specifically volcanic ash, constitutes a severe hazard to aviation. Over the past 20 years there have been numerous reports and aircraft encounters with volcanic ash at cruise altitude. The FAA as part of its responsibility to safeguard the usage of the National Airspace System (NAS) has a variety of ways to alert users of the inherent dangers associated with volcanic ash. This includes surface observations, Volcanic Ash Advisories, pilot reports, volcanic ash graphics, Notice to Airmen, and significant meteorological statements. All of these products are generally available to users of the NAS during a volcanic eruption that results in an ash cloud that endangers the safety of flight or ground operations at the aerodrome. However, there is evidence that FAA needs to improve the quality of information and dissemination for products to flight crews, airline operations centers (i.e., dispatchers and meteorologists), and airport managers. To accomplish this, the FAA plans to survey a variety of airline/airport service professionals and pilots to better understand their specific operational needs. The results of the survey will be used to identify the shortfalls in the existing alerting mechanism with the aim of defining firm requirements to improve the quality of information on volcanic eruptions/ash and its dissemination to users of the NAS.

The survey consists of four parts. The first part of the questionnaire identifies the respondent's function and responsibility with regard to the usage of volcanic ash products. The second par of the survey requests participants to identify whether they have any operational experience with volcanic ash. If participants respond positively that they have had experience with volcanic ash, they are then requested to complete the third and fourth part of the survey. The third part of the survey requests participants to assess the quality of products available and means to improve them or develop any new products that may be required. The final part of the survey requests participants to describe their training needs to better understand existing products and how to improve decision making.

Description and number of proposed respondents: A survey has been designed to gather information from flight crews, dispatchers, and airport managers. It is anticipated that the FAA will survey approximately 50 flight crew members, 20 dispatchers in airline operations centers, 30 meteorologists in airline meteorological departments and 15 airport managers. The survey of these individuals is to be a one time event.

Burden hours: It is estimated that it will take about 30 to 60 minutes to answer the questionnaire. Using the higher 60 minute estimate, the total burden, if all respond, would be 115 hours for all respondents combined.

An agency may not conduct or sponsor, and a person is not required to respond to, a collection of information unless it displays a currently valid OMB control number. Therefore, the FAA is soliciting comments to: (i) Evaluate whether the proposed collection of information is necessary for the proper performance of the functions of the agency, including whether the information will have practical utility; (ii) Evaluate the accuracy of the agency's estimate of the burden of the proposed collection of information, including the validity of the methodology and assumptions used; (iii) Enhance the quality, utility, and clarity of the information to be collected; and (iv) minimize the burden of the collection of information on those who are to respond, including through the use of appropriate automated electronic, mechanical or other technological collection techniques or other forms of information technology, e.g., permitting electronic submission of responses.

Issued in Washington, DC, on July 28, 2000.
Patricia W. Carter,
Acting Manager, Standards and Information Division, APF-100.

[FR Doc. 00-19842 Filed 8-3-00; 8:45 am]

BILLING CODE 4910-13-M